DEPARTMENT OF ENERGY

Federal Energy Regulatory Commission

[Docket No. RP89-224-020]

Southern Natural Gas Company; Notice of GSR Refund Filing

March 7, 2002.

Take notice that on February 28, 2002, Southern Natural Gas Company (Southern) tendered for filing a refund report which calculates and allocates among its customers $290,321 of GSR amounts overcollected during 2001.

Southern states that copies of the filing were served upon all parties listed on the official service list complied by the Secretary in these proceedings and interested State Commissions.

Any person desiring to protest said filing should file a protest with the Federal Energy Regulatory Commission, 888 First Street, NE., Washington, DC 20426, in accordance with Section 385.211 of the Commission's Rules and Regulations. All such protests must be filed on or before March 14, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5979 Filed 3-12-02; 8:45 am]

BILLING CODE 6717-01-P